DEPARTMENT OF HEALTH AND HUMAN SERVICES

National Institutes of Health

National Institute of Mental Health; Amended Notice of Meeting

Notice is hereby given of a change in the meeting of the National Institute of Mental Health Special Emphasis Panel, February 27, 2002, 3:30 p.m. to February 27, 2002, 5:30 p.m., Neuroscience Center, National Institutes of Health, 6001 Executive Blvd., Bethesda, MD 20892 which was published in the Federal Register on February 7, 2002, 67 FR 5838-9.

The meeting will be as a telephone conference on March 13, 2002, 2-4 p.m. at the Neuroscience Center. The meeting is closed to the public.

Dated: March 12, 2002.
LaVerne Y. Stringfield,
Director, Office of Federal Advisory Committee Policy.

[FR Doc. 02-6403 Filed 3-15-02; 8:45 am]

BILLING CODE 4140-01-M